DEPARTMENT OF ENERGY

Federal Energy Regulatory Commission

Combined Notice of Filings #1

Take notice that the Commission received the following exempt wholesale generator filings:

Docket Numbers: EG25-360-000.

Applicants: Vertus Energy Storage LLC.

Description: Vertus Energy Storage LLC submits Notice of Self-Certification of Exempt Wholesale Generator Status.

Filed Date: 6/26/25.

Accession Number: 20250626-5034.

Comment Date: 5 p.m. ET 7/17/25.

Take notice that the Commission received the following electric rate filings:

Docket Numbers: ER10-1338-005.

Applicants: Southern Indiana Gas and Electric Company, Inc.

Description: Amendment to 04/30/2025, Triennial Market Power Analysis for Central Region of Southern Indiana Gas and Electric Company, Inc.

Filed Date: 6/23/25.

Accession Number: 20250623-5457.

Comment Date: 5 p.m. ET 8/22/25.

Docket Numbers: ER10-2126-011.

Applicants: Idaho Power Company.

Description: Updated Triennial Market Power Analysis for Northwest Region of Idaho Power Company.

Filed Date: 6/26/25.

Accession Number: 20250626-5110.

Comment Date: 5 p.m. ET 8/25/25.

Docket Numbers: ER15-1905-021.

Applicants: AZ721 LLC.

Description: Triennial Market Power Analysis for Southwest Region of Amazon Energy LLC.

Filed Date: 6/25/25.

Accession Number: 20250625-5176.

Comment Date: 5 p.m. ET 8/25/25.

Docket Numbers: ER15-2267-004.

Applicants: Chevron Power Holdings Inc.

Description: Updated Triennial Market Power Analysis for Southwest Region of Chevron Power Holdings Inc.

Filed Date: 6/24/25.

Accession Number: 20250624-5920.

Comment Date: 5 p.m. ET 8/25/25.

Docket Numbers: ER23-652-001; ER23-2802-001.

Applicants: Oxbow Solar Farm 1, LLC, Happy Solar 1, LLC.

Description: Supplement to 07/01/2024, Triennial Market Power Analysis for Central Region of Happy Solar 1, LLC et al.

Filed Date: 6/25/25.

Accession Number: 20250625-5201.

Comment Date: 5 p.m. ET 7/16/25.

Docket Numbers: ER25-2308-001.

Applicants: Magnolia Power LLC.

Description: Tariff Amendment: Amendment to Market-Based Rate Application to be effective 7/4/2025.

Filed Date: 6/25/25.

Accession Number: 20250625-5141.

Comment Date: 5 p.m. ET 7/16/25.

Docket Numbers: ER25-2626-000.

Applicants: Arizona Public Service Company.

Description: § 205(d) Rate Filing: Service Agreement No. 434, E&P w/301AK 8ME, LLC to be effective 5/28/2025.

Filed Date: 6/26/25.

Accession Number: 20250626-5001.

Comment Date: 5 p.m. ET 7/17/25.

Docket Numbers: ER25-2628-000.

Applicants: Southwest Power Pool, Inc.

Description: § 205(d) Rate Filing: 1276R37 Evergy Metro NITSA NOA to be effective 6/1/2025.

Filed Date: 6/26/25.

Accession Number: 20250626-5028.

Comment Date: 5 p.m. ET 7/17/25.

Docket Numbers: ER25-2629-000.

Applicants: PacifiCorp.

Description: § 205(d) Rate Filing: Surplus LGIA & Energy Displacement Agreement (SA No. 1165) to be effective 6/27/2025.

Filed Date: 6/26/25.

Accession Number: 20250626-5037.

Comment Date: 5 p.m. ET 7/17/25.

Docket Numbers: ER25-2630-000.

Applicants: Southwest Power Pool, Inc.

Description: § 205(d) Rate Filing: 1636R32 Kansas Electric Power Cooperative NITSA and Doniphan NITSA Cancellation to be effective 6/1/2025.

Filed Date: 6/26/25.

Accession Number: 20250626-5040.

Comment Date: 5 p.m. ET 7/17/25.

Docket Numbers: ER25-2631-000.

Applicants: Talen Energy Marketing, LLC.

Description: § 205(d) Rate Filing: Market-Based Rate Tariff Revisions to be effective 6/27/2025.

Filed Date: 6/26/25.

Accession Number: 20250626-5042.

Comment Date: 5 p.m. ET 7/17/25.

Docket Numbers: ER25-2632-000.

Applicants: PJM Interconnection, L.L.C.

Description: Tariff Amendment: Notice of Cancellation of NSA, Service Agreement No. 7328; Queue No. AE2-029 to be effective 8/26/2025.

Filed Date: 6/26/25.

Accession Number: 20250626-5056.

Comment Date: 5 p.m. ET 7/17/25.

Docket Numbers: ER25-2633-000.

Applicants: Golden Spread Electric Cooperative, Inc.

Description: § 205(d) Rate Filing: OATT Attachment R Amendment to be effective 9/1/2025.

Filed Date: 6/26/25.

Accession Number: 20250626-5059.

Comment Date: 5 p.m. ET 7/17/25.

Docket Numbers: ER25-2634-000.

Applicants: Southern California Edison Company.

Description: § 205(d) Rate Filing: 2nd Amended LGIA, Catalina Solar, TOT455, SA No. 114 to be effective 8/26/2025.

Filed Date: 6/26/25.

Accession Number: 20250626-5061.

Comment Date: 5 p.m. ET 7/17/25.

Docket Numbers: ER25-2635-000.

Applicants: Geronimo Power Marketing, LLC.

Description: Compliance filing: Notice of Succession and Revised Market-Based Rate Tariff to be effective 6/27/2025.

Filed Date: 6/26/25.

Accession Number: 20250626-5080.

Comment Date: 5 p.m. ET 7/17/25.

Docket Numbers: ER25-2636-000.

Applicants: Central Hudson Gas & Electric Corporation, New York Independent System Operator, Inc.

Description: § 205(d) Rate Filing: New York Independent System Operator, Inc. submits tariff filing per 35.13(a)(2)(iii: Central Hudson 205: Revisions to Rate Schedule 12 FRT re: Hurley Ave to be effective 6/1/2025.

Filed Date: 6/26/25.

Accession Number: 20250626-5084.

Comment Date: 5 p.m. ET 7/17/25.

Docket Numbers: ER25-2637-000.

Applicants: California Independent System Operator Corporation.

Description: § 205(d) Rate Filing: 2025-06-26 Tariff Amendment—Enhance Congestion Revenue Allocation for EDAM to be effective 12/31/9998.

Filed Date: 6/26/25.

Accession Number: 20250626-5088.

Comment Date: 5 p.m. ET 7/17/25.

Docket Numbers: ER25-2638-000.

Applicants: Midcontinent Independent System Operator, Inc., Ameren Transmission Company of Illinois.

Description: § 205(d) Rate Filing: Ameren Transmission Company of Illinois submits tariff filing per 35.13(a)(2)(iii: 2025-06-26_SA 4509 ATXI-AEC-MEC-Sikeston TIA to be effective 12/31/9998.

Filed Date: 6/26/25.

Accession Number: 20250626-5092.

Comment Date: 5 p.m. ET 7/17/25.

Docket Numbers: ER25-2639-000.

Applicants: Southwest Power Pool, Inc.

Description: § 205(d) Rate Filing: 2198R39 Kansas Power Pool NITSA NOA to be effective 9/1/2025.

Filed Date: 6/26/25.

Accession Number: 20250626-5095

Comment Date: 5 p.m. ET 7/17/25.

Docket Numbers: ER25-2640-000.

Applicants: Duke Energy Florida, LLC, Duke Energy Progress, LLC, Duke Energy Carolinas, LLC.

Description: Compliance filing: Duke Energy Carolinas, LLC submits tariff filing per 35: Compliance Filing Regarding Order No. 676-K to be effective 2/27/2026.

Filed Date: 6/26/25.

Accession Number: 20250626-5100.

Comment Date: 5 p.m. ET 7/17/25.

Docket Numbers: ER25-2641-000.

Applicants: Consolidated Edison Company of New York, Inc.

Description: § 205(d) Rate Filing: 98 Hydroelectric Facility Compensation June 2025 to be effective 7/1/2025.

Filed Date: 6/26/25.

Accession Number: 20250626-5104.

Comment Date: 5 p.m. ET 7/17/25.

Docket Numbers: ER25-2642-000.

Applicants: Fremont Solar, LLC.

Description: § 205(d) Rate Filing: Revised Market-Based Rate Tariff to be effective 6/27/2025.

Filed Date: 6/26/25.

Accession Number: 20250626-5124.

Comment Date: 5 p.m. ET 7/17/25.

Docket Numbers: ER25-2643-000.

Applicants: Serrano Solar, LLC.

Description: § 205(d) Rate Filing: Revised Market-Based Rate Tariff to be effective 6/27/2025.

Filed Date: 6/26/25.

Accession Number: 20250626-5126.

Comment Date: 5 p.m. ET 7/17/25.

Docket Numbers: ER25-2644-000.

Applicants: Sun Pond, LLC.

Description: § 205(d) Rate Filing: Revised Market-Based Rate Tariff to be effective 6/27/2025.

Filed Date: 6/26/25.

Accession Number: 20250626-5130

Comment Date: 5 p.m. ET 7/17/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: June 26, 2025.
Carlos D. Clay,
Deputy Secretary.

[FR Doc. 2025-12257 Filed 6-30-25; 8:45 am]

BILLING CODE 6717-01-P